DEPARTMENT OF ENERGY

Notice of Availability of Interim Guidance on Packaging, Transportation, Receipt, Management, Short-Term and Long-Term Storage of Elemental Mercury and Request for Comment; Correction

AGENCY: Office of Environmental Management, Department of Energy.

ACTION: Notice of availability; request for comments: correction.

SUMMARY: On May 2, 2023, the Department of Energy (DOE) published a notice of availability and request for comment on a revision to DOE's 2009 U.S. Department of Energy Interim Guidance on Packaging, Receipt, Management, and Long-Term Storage of Elemental Mercury and Guidance for Short-Term Storage of Elemental Mercury by Ore Processors (May 2019). This document makes corrections to that notice.

FOR FURTHER INFORMATION CONTACT: David Haught at david.haught@hq.doe.gov or at U.S. Department of Energy, Office of Environmental Management, Office of Waste Disposal (EM-4.22), 1000 Independence Avenue SW, Washington, DC 20585. Telephone: (301) 903-1765.

Correction

In the Federal Register of May 2, 2023, in FR Doc. 2023-09301, on page 27496, the ADDRESSES and FOR FURTHER INFORMATION CONTACT sections are corrected as follows:

ADDRESSES: Please direct written comments via one of the following methods:

Email: Send comments to david.haught@hq.doe.gov. Please submit comments in Microsoft™ Word, or PDF file format, and avoid the use of encryption. Additional information regarding the Interim Guidance on Packaging, Transportation, Receipt, Management, Short-Term and Long-Term Storage of Elemental Mercury and other related documents is available online at https://www.energy.gov/em/long-term-management-and-storage-elemental-mercury.

U.S. Mail: Send comments to the following address: David Haught, U.S. Department of Energy, Office of Environmental Management, Office of Waste Disposal (EM-4.22), 1000 Independence Avenue SW, Washington, DC 20585.

FOR FURTHER INFORMATION CONTACT: David Haught at david.haught@hq.doe.gov at U.S. Department of Energy, Office of Environmental Management, Office of Waste Disposal (EM-4.22), 1000 Independence Avenue SW, Washington, DC 20585. Telephone: (301) 903-1765.

Signing Authority

This document of the Department of Energy was signed on May 4, 2023, by Kristen G. Ellis, Acting Associate Principal Deputy Assistant Secretary for Regulatory and Policy Affairs, Office of Environmental Management, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on May 4, 2023.
Treena V. Garrett,
Federal Register Liaison Officer, U.S. Department of Energy.

[FR Doc. 2023-09845 Filed 5-8-23; 8:45 am]

BILLING CODE 6450-01-P